DEPARTMENT OF AGRICULTURE

Forest Service

Grand Mesa, Uncompahgre and Gunnison National Forests; CO; Deer Creek Shaft and E Seam Methane Drainage Wells Project EIS

AGENCY: Forest Service, USDA.

ACTION: Notice of intent to prepare an environmental impact statement.

SUMMARY: Mountain Coal Company, LLC proposes the construction of one (1) ventilation shaft and one (1) emergency escape shaft (combined location) and the installation of up to 160 methane drainage wells located on up to 120 pads with up to 19 miles of associated access roads to vent explosive methane gas from their underground coal mine.

DATES: Comments concerning the scope of the analysis must be received 45 days after publication in the Federal Register. The draft environmental impact statement is expected December, 2006 and the final environmental impact statement is expected February, 2007.

ADDRESSES: Send or hand deliver written comments to: Grand Mesa, Uncompahgre and Gunnision National Forests, Attn: Deer Creek Shaft and E Seam MDW Project, 2250 HWY 50, Delta, Colorado 81416. E-mail comments to: nmortenson@fs.fed.us, (Subject: Deer Creek Shaft and E Seam MDW).

FOR FURTHER INFORMATION CONTACT: Niccole Mortenson, Engineering and Minerals NEPA Project Specialist, 970-874-6616 or write/e-mail the address above.

SUPPLEMENTARY INFORMATION:

Purpose and Need for Action

The Forest Service has identified the need to authorize MCC reasonable surface use and access on forest lands for compliance with methane gas Mine Safety and Health Administration requirements in the West Elk underground coal mine; thereby allowing safe and efficient recovery of previously leased (Lease C-1362) Federal coal reserves.

Proposed Action

Existing Federal coal leases are currently being mined by Mountain Coal Company, LLC (MCC) from their West Elk Mine. MCC presently operates a longwall system of underground mining at the West Elk Mine, which is permitted with the Colorado Division of Reclamation, Mining and Safety for a production rate of 8.2 million tons of coal per year. The West Elk Mine was opened in 1981 and presently produces coal from several existing Federal coal leases. The coal mined at the West Elk Mine, as well as from other mines in the North Fork Valley, is a high BTU, low sulfur coal. It is considered a “clean coal” (compliance coal). Its use in industry helps meet standards of the Clean Air Act. As such, there is a demand for coal from the West Elk Mine and other mines in the North Fork Valley by electric power generation industries.

Mining operations have encountered explosive methane gas. In order to continue operations, the methane must be vented to reduce the explosion hazard. A similar project for this same issue was analyzed in 2002 in the Coal Methane Drainage Project Panels 16-24 Mountain Coal Company-West Elk Mine Environmental Assessment. Implementation of that project has resulted in field data which will assist in future analysis.

The proposed Deer Creek Shaft is located in the NE¼ Section 32, Township 13 South, Range 90 West, 6th Principal Meridian, in Gunnison County, Colorado (approximately 1800 feet southeast of Minnesota Reservoir) and would serve ventilation and emergency escape functions for mine safety. The access and pad location for this shaft have been approved under a previous NEPA decision (2006) for geotechnical work and have already been constructed.

The proposed methane drainage well development is located Sections 27-29 and 32-34, Township 13 South, Range 90 West and Sections 1-5 and 8-10, Township 14 South, Range 90 West, 6th Principal Meridian, in Gunnison County, Colorado (approximately 7-10 miles east and northeast of Paonia, Colorado). These lands partially overlay Federal Coal Lease C-1362. Portions of this proposed activity overlay unleased Federal lands that are on the leasing schedule for early 2007. While there is no guarantee that MCC will receive leases on these lands, the company wishes to include these lands as precautionary measure for reasonably forseeable developments.

The proposed action consists of the construction of one (1) ventilation shaft and one (1) emergency escape shaft (combined location) and the installation of up to 160 methane drainage wells located on up to 120 pads with up to 19 miles of associated access roads. For the purposes of analysis, the maximum development will be considered.

Deer Creek Shaft Project Proposal Includes:

• Using raisebore, blindbore, or conventional sink construction methods to construct the ventilation shaft to create a 20-28 foot diameter air shaft by 400 feet deep.

• Using raisebore or blindbore methods to construct a 4 foot diameter 400 foot deep emergency escapeway. Constructing enclosure (20 foot x 30 foot steel-sided shed) for emergency escapeway and electrical generation equipment for emergency escape hoist.

• Shaft and escapeway will use previously approved and constructed pad and access road southeast of Minnesota Creek.

• Performing Operations and Maintenance.

• Performing interim reclamation on pad and light-use road once shaft and emergency structures are constructed.

• Sealing airshaft and escapeway and performing final reclamations when no longer needed at end of life of mine (mine life estimated at 13-15 years).

E Seam Methane Drainage Wells (MDW) Project Proposal Includes:

• Drilling and casing of up to 160 MDWs located on up to 120 pads. Estimated total pad disturbance is 75 acres over 12 years.

• Constructing/reconstructing roads between existing roads and new drill pads, estimated length up to 19 miles. Estimated access disturbance is 46 acres over 12 years.

• Installing passive and/or active degassing equipment.

• Operating and Maintaining wells for ventilation of mine.

• Interim reclaiming of mud pits, seeding and mulching outslopes and cut-slopes.

• Plugging drill holes and performing final reclamation on roads and pads when drill holes are no longer performing their intended purpose (estimated life of each MDW is 3 years; construction and reclamation would span 12 years).

Possible Alternatives

No Action.

Proposed Action-Conventional Shaft Construction.

Alternative 1—Raisebore/Blindbore Shaft Construction.

Cooperating Agencies

Department of Interior, Bureau of Land Management, Uncompahgre Field Office.

Responsible Official

Charles S. Richmond, Forest Supervisor, Grand Mesa, Uncompahgre and Gunnison National Forests, 2250 HWY 50, Delta, Colorado 81416.

Nature of Decision To Be Made

The Forest Supervisor must decide:

• Whether or not to permit the surface occupancy for the shaft, access roads and methane drainage wells in part or in entirety.

• Select the proposed action or an alternative method for the shaft and escapeway construction.

• Prescribe terms and/or conditions with respect to the use and protection of non-mineral interests.

Scoping Process

• Publish in Delta County Independent, Grand Junction Daily Sentinel and Federal Register.

• Send scoping letters to required agencies, Tribes and interested party list.

• Conduct public field trips (if warranted by scoping responses).

• Respond to comments in DEIS.

Preliminary Issues

• Socioeconomic benefits of mining.

• Wildlife.

• Topographic surface, land stability, soils and geologic hazards.

• Vegetation.

• Cultural resources.

• Existing land uses, including recreation, roadless character.

• Existing roads/facilities.

• Visual resources.

• Livestock management.

• Air quality.

• Cumulative impacts.

Permits or Licenses Required

A special use permit will be issued by the Forest Service to the proponent if an action alternative is approved for surface use.

All mine works are approved by Colorado Division of Reclamation, Mining and Safety.

Comment Requested

This notice of intent initiates the scoping process which guides the development of the EIS. Comments are being sought with regard to the design or implementation of this project. Comments which pertain to the use of or leasing of vented methane are outside the scope and authority of this document and will be treated as such.

Early Notice of Importance of Public Participation in Subsequent Environmental Review: A draft EIS will be prepared for comment. The comment period on the draft EIS will be 45 days from the date the Environmental Protection Agency publishes the notice of availability in the Federal Register.

The Forest Service believes, at this early stage, it is important to give reviewers notice of several court rulings related to public participation in the environmental review process. First, reviewers of draft EIS documents must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: September 11, 2006.
Charles S. Richmond,
Forest Supervisor.

[FR Doc. E6-15473 Filed 9-15-06; 8:45 am]

BILLING CODE 3410-11-P